DEPARTMENT OF HEALTH AND HUMAN SERVICES

Administration for Children and Families

Submission for Office of Management and Budget Review; Request for Certification of Adult Victims of Human Trafficking

AGENCY: Office on Trafficking in Persons; Administration for Children and Families; U.S. Department of Health and Human Services.

ACTION: Request for public comments.

SUMMARY: The Administration for Children and Families (ACF), Office on Trafficking in Persons (OTIP) is requesting a 3-year extension of the form: Request for Certification of Adult Victims of Human Trafficking (RFC) form (Office of Management and Budget (OMB) #: 0970-0454, expiration April 30, 2025).

DATES: Comments due May 29, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. All emailed requests should be identified by the title of the information collection.

SUPPLEMENTARY INFORMATION:

Description: The U.S. Department of Health and Human Services (HHS) provides letters of certification to victims of severe forms of trafficking in persons under the authority of the Trafficking Victims Protection Act (TVPA) of 2000, as amended 22 U.S.C. 7105(b)(1)(C) and (E). HHS delegated this authority to OTIP. Certification is required for adult victims of human trafficking in the U.S. to apply for federally funded benefits and services.

OTIP developed The Request for Certification of Adult Victims of Human Trafficking (RFC) form for potential victims and their advocates, including case managers, attorneys, law enforcement officers, service providers, and other representatives to provide the required information for certification to HHS in accordance with the TVPA of 2000, as amended.

Since the RFC form originally received clearance, OTIP modernized its request process and launched Shepherd, an online case management system, to process requests for certification and assistance. The PDF version of the form should only be used in exceptional circumstances when the online case management system is inaccessible. If a requester encounters issues submitting a request through Shepherd, they may submit the RFC form to OTIP as a password protected PDF to Trafficking@acf.hhs.gov.

The form asks the requester for their identifying information, identifying information for the individual who experienced trafficking victimization in the event the form is submitted by a case manager, and information describing the victim's case management service needs.

Respondents: Potential victims of a severe form of trafficking in persons and their advocates, including case managers, attorneys, law enforcement officers, service providers, and other representatives.

Annual Burden Estimates: The fluctuation in certification letters issued by HHS primarily reflects changing patterns in law enforcement investigations and the number of T visas and Continued Presence status issued by the Department of Homeland Security. Burden estimates have been calculated based on the average number of RFCs received and certification letters issued over the last two periods that the information collection has been in effect (fiscal year 2019 to 2024). Over the course of this time, OTIP has received approximately 8-12 RFCs per week (416-624 RFCs per year) and issued an average of 525 certification letters per year. The time to complete the RFC remains the same. Burden estimates for this collection have been revised, accordingly.

Instrument | Total number of respondents | Total number of responses per respondent | Average burden hours per response | Total burden hours | Annual burden hours
Request for Certification of Adult Victims of Human Trafficking | 1,872 | 1 | 1 | 1,872 | 624

Authority: 22 U.S.C. 7105.

Mary C. Jones,
ACF/OPRE Certifying Officer.

[FR Doc. 2025-07374 Filed 4-28-25; 8:45 am]

BILLING CODE 4184-47-P